OFFICE OF MANAGEMENT AND BUDGET

Provisional Guidance on the Implementation of the 1997 Standards for Federal Data on Race and Ethnicity

AGENCY: Executive Office of the President, Office of Management and Budget (OMB), Office of Information and Regulatory Affairs.

ACTION: Notice of availability and request for comments.

SUMMARY: OMB is announcing the availability of “Provisional Guidance for the Implementation of the 1997 Standards for Federal Data on Race and Ethnicity,” and soliciting public comment on any aspects of the document for a period of 60 days. The document is close to 200 pages and thus is not being reproduced in the Federal Register. It is available electronically on the OMB web site at the following address: http://www.whitehouse.gov/OMB/inforeg/index.html#SP—go to Data on Race and Ethnicity, or in paper form from OMB at the address below. This updated material supercedes and replaces the draft provisional guidance that OMB made available on its web site in February 1999.

DATES: Written comments should be received by OMB by March 19, 2001.

ADDRESSES: Please send comments to: Katherine K. Wallman, Chief Statistician, Office of Management and Budget, Room 10201 New Executive Office Building, 725 17th Street, N.W., Washington, DC 20503; fax: (202) 395-7245.

Electronic Availability and Addresses: This Federal Register Notice is available electronically from the OMB web site: http://www.whitehouse.gov/OMB/fedreg/index.html. Federal Register Notices also are available electronically from the U.S. Government Printing Office web site: http://www.access.gpo.gov/su_docs/aces/aces140.html.

FOR FURTHER INFORMATION CONTACT: Suzann Evinger at telephone 202-395-7315; or E-mail: sevinger@omb.eop.gov.

SUPPLEMENTARY INFORMATION: In the Federal Register for October 30, 1997, OMB announced “Standards for Maintaining, Collecting, and Presenting Federal Data on Race and Ethnicity,” which revised the standards originally adopted in 1977. (See 62 FR 58781—58790 for background on revisions that were adopted). This classification provides a minimum set of five categories for data on race (American Indian or Alaska Native; Asian; Black or African American; Native Hawaiian or Other Pacific Islander; and White) and two categories for data on ethnicity (Hispanic or Latino and Not Hispanic or Latino). In addition to changes in the categories and terminology, the 1997 standards require that agencies provide the opportunity for individuals to choose more than one racial category if they wish to reflect multiple racial heritages.

Since this change in policy that permits reporting of more than race was announced, considerable attention has been given to the question of how data on multiple race responses would be tabulated. Federal agencies and other users of data on race and ethnicity requested guidance on how to implement several aspects of the 1997 standards.

OMB issued some preliminary tabulation guidance as part of the October 30, 1997 Federal Register Notice. In addition, for the past several years the Tabulation Working Group of the Interagency Committee for the Review of Standards for Data on Race and Ethnicity has been considering tabulation and other implementation issues and working to develop additional guidance. This group of statistical and policy experts drawn from the Federal agencies that generate or use data on race and ethnicity produced draft provisional guidance that OMB issued on its web site in February 1999. The provisional guidance being announced today is a substantially updated version of the earlier guidance. It reflects public comments on the earlier draft as well as the Tabulation Working Group's further research and deliberations on the issues.

The guidance presented in this document is intended for any Federal agencies or organizational units that maintain, collect, or present data on race and ethnicity for Federal statistical purposes, program administrative reporting, or civil rights compliance reporting. To foster comparability across data collections carried out by various agencies, it is useful for those agencies to report responses of more than one race using some standardized tabulations or formats.

The guidance briefly explains why the tabulation guidelines are needed, reviews the general guidance issued when the standards were adopted in October 1997, and provides information on the criteria used in developing the guidelines. The guidance also addresses a larger set of implementation questions that have emerged during the working group's deliberations. Thus, the guidance addresses: collecting data on race and ethnicity using the 1997 standards, including sample questions; tabulating Census 2000 data as well as data on race and ethnicity collected in surveys and from administrative records; using data on race and ethnicity in applications such as legislative redistricting, civil rights monitoring and enforcement, and population estimates; and comparing data under the 1997 and the 1977 standards when conducting trend analyses. The 1997 standards are reproduced in Appendix A to the guidance. Appendix B provides OMB Bulletin No. 00-02, Guidance on Aggregation and Allocation of Data on Race for Use in Civil Rights Monitoring and Enforcement.” Appendix C provides the full report with tables (85 pages) on how data collected under the 1997 standards might be meaningfully compared to data collected under the 1977 standards. Including the appendices, the full document is close to 200 pages.

This guidance is necessarily provisional pending the availability of data from Census 2000 and other data systems as the 1997 standards are implemented. The guidance provides a general framework and is not intended to cover every specific issue that agencies will encounter during their implementation of the 1997 standards. In some instances, for example, specific implementation issues are being addressed through OMB's review of data collections under the Paperwork Reduction Act. This guidance is expected to be reviewed and refined as Federal agencies and others gain experience with data collected under the 1997 standards and as agencies address implementation issues in their respective programs.

Below is the table of contents for the “Provisional Guidance on the Implementation of the 1997 Standards for Federal Data on Race and Ethnicity.”

Table of Contents

Chapter 1. Background

A. Need for Tabulation Guidelines

B. General Guidelines for Tabulating Data on Race

C. Interpretation of Self-Reported Data on Race

D. Points of Clarification Regarding the 1997 Standards

E. Criteria Used in Developing the Tabulation Guidelines

Chapter 2. Collecting Data on Race and Ethnicity Using the 1997 Standards

A. Developing Procedures for Data Collection

1. Developing and Testing Self-Reported Race and Ethnicity Questions

2. Developing and Testing Aggregate Reporting Forms

3. Developing Field Instructions and Training Procedures

B. Processing Census 2000 Data Using the 1997 Standards

1. Pre-editing Procedures

2. Within-Household Imputation

3. “Hot Deck” Imputation

4. Substitution

5. Group Quarters Editing

C. Evaluating Census 2000 Data on Race

Chapter 3. Tabulating Data on Race and Ethnicity Collected Using the 1997 Standards

A. Census 2000 Data

1. Protection of Data Confidentiality

2. Plans for Tabulations by Race and Ethnicity

3. Overview of Plans for Data Products

4. 100-Percent Data on Population Totals and Characteristics by Race and Ethnicity

5. Sample Data on Population Characteristics by Race and Ethnicity

6. Microdata Files

B. Survey and Administrative Records Data

Chapter 4. Using Data on Race and Ethnicity Collected Under the 1997 Standards

A. Civil Rights Enforcement and Monitoring

1. Redistricting

2. Equal Employment Opportunity

3. Equal Access to Education

4. Enforcement of Title VI of the Civil Rights Act of 1964

B. Intercensal Estimates and Vital Records

1. Description of the Intercensal Population Estimates Program

2. Uses of Population Estimates

3. Methodology for Developing Intercensal Population Estimates

4. Data Availability

5. Comparability Issues

6. Future Direction

C. Uniform Crime Reporting Program

Chapter 5. Comparing Data Collected Under the 1997 and the 1977 Standards (Full Report at Appendix C)

A. Introduction

B. Methods for Bridging

1. Framework

2. Bridge Tabulation Methods

C. Methods of Evaluation

1. Data Sources

2. Advantages and Disadvantages of These Data Sources

3. Description of New Analyses

D. Examination of the Results with Respect to the Evaluation Criteria

E. Weighting When Appropriate Population Controls Are Not Available

F. Strategies for Users

Appendix A. Standards for Maintaining, Collecting, and Presenting Federal Data on Race and Ethnicity (October 30, 1997)

Appendix B. OMB Bulletin No. 00-02, Guidance on Aggregation and Allocation of Data on Race for Use in Civil Rights Monitoring and Enforcement (March 9, 2000)

Appendix C. Bridge Report: Tabulation Options for Trend Analysis

OMB would appreciate receiving views and comments on any aspects of the provisional guidance for implementing the 1997 standards for Federal data on race and ethnicity.

Sally Katzen,
Deputy Director for Management.

[FR Doc. 01-1132 Filed 1-12-01; 8:45 am]

BILLING CODE 3110-01-P